NUCLEAR REGULATORY COMMISSION

[Docket Nos. 50-247 and 50-286; License Nos. DPR-26 and DPR-64]

Entergy Nuclear Operations, Inc., Entergy Nuclear Indian Point 2, LLC, Entergy Nuclear Indian Point 3, LLC, Indian Point Nuclear Generating Unit Nos. 2 and 3; Receipt of Request for Action Under 10 CFR 2.206

Notice is hereby given that by petition dated September 28, 2007, Mr. Sherwood Martinelli, representing Friends United for Sustainable Energy (Petitioner), has requested that the NRC (1) issue orders, effective immediately, to suspend the NRC licenses for the Indian Point Nuclear Generating Units 2 and 3 (Indian Point) until the new emergency notification siren system is fully approved by both the Federal Emergency Management Agency and the NRC and (2) fine Entergy Nuclear Operations (Entergy, or the licensee) $130,000 per day from the date of his petition (i.e., September 28, 2007) until Entergy complies with the NRC's Confirmatory Order of January 31, 2006, which requires the licensee to install backup power for the Indian Point siren system. On January 24, 2008, the Petitioner amended the petition citing concerns with recently discovered corrosion on sirens for the new emergency notification system. In the amended petition, the Petitioner requested that the NRC (1) issue an order to immediately place both Indian Point Unit Nos. 2 and 3 in Cold Shutdown, (2) suspend Entergy's license to operate Indian Point Unit Nos. 2 and 3 until such time as they are in full compliance with their design basis threat, current licensing basis, and all NRC rules and regulations, and (3) fine Entergy on a daily basis for no less than $500,000 until such time as the sirens have been fully approved by all levels of government.

The request is being treated pursuant to 10 CFR 2.206 of the Commission's regulations. The request has been referred to the Director of the Office of Nuclear Reactor Regulation (NRR). On November 1 and December 19, 2007, the Petitioner was informed in telephone calls that the request for immediate action for the original petition was denied. In addition, on January 30, 2008, the Petitioner was informed by electronic transmission that the request for immediate action for the amended petition was also denied. The Petitioner participated in a conference call with the NRR Petition Review Board (PRB) on December 21, 2007, to discuss the petition. The additional information provided by the Petitioner was considered by the PRB before making its final recommendation. By letter dated February 12, 2008, the Director accepted for review, pursuant to 10 CFR 2.206, the Petitioner's concerns regarding (1) the licensee's failure to implement the new emergency notification siren system in a timely manner and (2) the recently identified corrosion found on sirens for the new emergency notification system. As provided by Section 2.206, appropriate action will be taken on this petition within a reasonable time.

A copy of the petition and addenda can be located at Agencywide Documents Access and Management Systems Accession Nos. ML072760602 and ML080250075, respectively, and are available for inspection at the Commission's Public Document Room, located at One White Flint North, 11555 Rockville Pike (first floor), Rockville, Maryland.

Dated at Rockville, Maryland this 12th day of February 2008.
For the Nuclear Regulatory Commission.
J. E. Dyer,
Director, Office of Nuclear Reactor Regulation.

[FR Doc. E8-3472 Filed 2-22-08; 8:45 am]

BILLING CODE 7590-01-P